DEPARTMENT OF THE INTERIOR

National Park Service

[N6693; NPS-WASO-NAGPRA-NPS0041433; PPWOCRADN0-PCU00RP14.R50000]

Notice of Inventory Completion: University of Michigan, Ann Arbor, MI

AGENCY: National Park Service, Interior.

ACTION: Notice.

SUMMARY: In accordance with the Native American Graves Protection and Repatriation Act (NAGPRA), the University of Michigan has completed an inventory of associated funerary objects and has determined that there is a cultural affiliation between the associated funerary objects and Indian Tribes or Native Hawaiian organizations in this notice.

DATES: Repatriation of the associated funerary objects in this notice may occur on or after January 16, 2026.

ADDRESSES: Send written requests for repatriation of the associated funerary objects in this notice to Dr. Ben Secunda, NAGPRA Office Managing Director, University of Michigan, Office of Research, Suite G269, Lane Hall, Ann Arbor, MI 48109-1274, email bsecunda@umich.edu.

SUPPLEMENTARY INFORMATION: This notice is published as part of the National Park Service's administrative responsibilities under NAGPRA. The determinations in this notice are the sole responsibility of the University of Michigan, and additional information on the determinations in this notice, including the results of consultation, can be found in its inventory or related records. The National Park Service is not responsible for the determinations in this notice.

Abstract of Information Available

Based on information available, five associated funerary objects were removed from the Bedford site (11PK7) in Pike Co., Illinois on multiple dates by multiple individuals. The five associated funerary objects are two lots of earthenware sherds; one lot of unworked wood; one lot of lithic flakes; and one lot lithic. Through Consultation, dating for the site was determined to be the Middle to Late Woodland period.

Based on the information available, 15 associated funerary objects were removed from the Blue Creek site (11PK5) in Pike Co., Illinois on multiple dates by multiple individuals. The 15 associated funerary objects are two lots of earthenware sherds; one lot of bone awls; one lot of shell; seven lots of lithics; one lot of animal bones; one lot of large lithic; one lot of flat piece of stone; and one lot of galena/lead. Through Consultation, dating for the site was determined to be the Middle to Late Woodland period.

Based on the information available, seven associated funerary objects were removed from the Montezuma site (11PK41) in Pike Co., Illinois prior to 1950. The seven associated funerary objects are two lots of earthenware sherds; one lot of lithic bannerstone; one lot of lithic projectile point; one lot of worked stone; one lot of worked flint flakes; and one lot of mammal bone fragments. Through Consultation, dating for the site was determined to be to the Middle to Late Woodland period.

Based on information available, 47 associated funerary objects were removed from the Manker site (11PK3) in Pike Co., Illinois on multiple dates by multiple individuals. The 47 associated funerary objects are eight lots of earthenware sherds; one lot of bone awls; four lots of lithic bifaces; two lots of shell; one lot of lithic scrapers; one lot of projectile points and projectile point fragments; six lots of various stone tools; one lot of projectile point fragments; two lots of lithic blades and blade fragments; one lot of lithic drill; one lot of stone hoe; one lot of stone celt fragments; one lot of grooved stone axe; one lot of various archaeological materials; two lots of stone tools; one lot of stone celts; two lots of projectile points; one lot of lithic flakes; three lots of lithic blades; one lot of stone disc; one lot of unworked animal bone fragment; one lot of groundstone axes; one lot of grooved stone pendant; one lot of worked stone; one lot of unfired clay fragment; one lot of unworked stones. Through Consultation, dating for the site was determined to be to the Middle to Late Woodland period.

The University of Michigan has no record of, nor do its officials have any knowledge of, any treatment of items with pesticides, preservatives, or other substances that represent a potential hazard to the collection(s) or to persons handling the collection(s).

Cultural Affiliation

Based on the information available and the results of consultation, cultural affiliation is reasonably identified by the geographical location or acquisition history of the associated funerary objects described in this notice.

Determinations

The University of Michigan has determined that:

• The 74 objects described in this notice are reasonably believed to have been placed intentionally with or near individual Ancestral remains at the time of death or later as part of the death rite or ceremony.

• There is a connection between the associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after January 16, 2026. If competing requests for repatriation are received, the University of Michigan must determine the most appropriate requestor prior to repatriation. Join requests for repatriation of the associated funerary objects are considered a single request and not competing requests. The University of Michigan is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23047 Filed 12-16-25; 8:45 am]

BILLING CODE 4312-52-P